NATIONAL SCIENCE FOUNDATION

Special Emphasis Panel in Physics; Notice of Meeting

In accordance with the Federal Advisory Committee Act (Pub. L. 92-463), as amended, the National Science Foundation announces the following meeting.

Name: Special Emphasis Panel In Physics (1208).

Date/Time: March 27-29, 2000; 8:00 a.m.-6:30 p.m.

Place: Room 365, National Science Foundation, 4201 Wilson Boulevard, Arlington, VA 22230.

Type of Meeting: Closed.

Contact Person: Dr. Winston Roberts, Program Director for Nuclear Theory, Division of Physics, Room 1015, National Science Foundation, 4201 Wilson Blvd., Arlington, VA 22230. Telephone: (703) 306-1805.

Purpose of Meeting: To provide advice and recommendations concerning proposals submitted to NSF for financial support.

Agenda: To review and evaluate proposals submitted to the Nuclear Theory Program as part of the selection process for awards.

Reason for Closing: The proposals being reviewed include information of a proprietary or confidential nature, including technical information; financial data, such as salaries; and personal information concerning individuals associated with the proposals. These matters are exempt under 5 U.S.C. 552b(c) (4) and (6) of the Government in the Sunshine Act.

Dated: February 1, 2000.
Karen J. York,
Committee Management Officer.

[FR Doc. 00-2742 Filed 2-7-00; 8:45 am]

BILLING CODE 7555-01-M